DEPARTMENT OF HEALTH AND HUMAN SERVICES

Health Resources and Services Administration

National Advisory Council on Nurse Education and Practice; Notice for Request for Nominations

SUMMARY: The Health Resources and Services Administration (HRSA) is requesting nominations to fill seven vacancies on the National Advisory Council on Nurse Education and Practice (NACNEP).

Authority: The National Advisory Council on Nurse Education and Practice is in accordance with the provisions of 42 United States Code (U.S.C.) 297t; Section 845 of the Public Health Service Act, as amended. The Council is governed by provisions of Public Law 92-463, which sets forth standards for the formation and use of advisory committees.

DATES: The Agency must receive nominations on or before September 5, 2013.

ADDRESSES: All nominations are to be submitted either by mail or email to CDR Serina A. Hunter-Thomas, Designated Federal Official, NACNEP, Division of Nursing, Bureau of Health Professions (BHPr), Health Resources and Administration (HRSA), Parklawn Building, Room 9-61, 5600 Fishers Lane, Rockville, MD 20857. CDR Hunter-Thomas' email address is: SHunter-Thomas@Hrsa.gov.

FOR FURTHER INFORMATION CONTACT: For additional information, please contact CDR Hunter-Thomas by email or telephone at (301) 443-4499. A copy of the current committee membership, charter, and reports can be obtained by accessing the NACNEP Web site at http://bhpr.hrsa.gov/nursing/nacnep.htm.

SUPPLEMENTARY INFORMATION: Under the authorities that established the NACNEP and the Federal Advisory Committee Act, HRSA is requesting nominations for seven new committee members. The NACNEP advises and makes recommendations to the Secretary and Congress on policy matters arising in the administration of Title VIII including the range of issues relating to the nurse workforce, nursing education, and nursing practice improvement. The Advisory Committee may make specific recommendations to the Secretary and Congress regarding programs administered by the Division of Nursing, Bureau of Health Professions, Health Resources and Services Administration, particularly within the context of the enabling legislation and the Division's mission and strategic directions, as a means of enhancing the health of the public through the development of the nursing workforce. The Advisory Committee provides advice to the Secretary and Congress in preparation of general regulations and with respect to policy matters in the administration of this Title including the range of issues relating to the nurse supply, education, and practice improvement. The Advisory Council shall annually prepare and submit to the Secretary; the Committee on Health, Education, Labor, and Pensions of the Senate; and the Committee on Energy and Commerce of the House of Representatives, a report describing the activities of the Advisory Council including its findings and recommendations.

The Department of Health and Human Services is requesting a total of seven nominations for members of the NACNEP who are full-time students representing various levels of education in schools of nursing (i.e. both undergraduate and graduate); from the general public; from practicing professional nurses; from among the leading authorities in the various fields of nursing, higher secondary education, and associate degree schools of nursing; and from representatives of advanced education nursing groups (such as nurse practitioners, nurse midwives, and nurse anesthetists), hospitals, and other institutions and organizations which provide nursing services. The majority of members shall be nurses.

HRSA has special interest in the legislative requirements of having a fair balance between the nursing profession, including a broad geographic representation of members from urban and rural communities, and minorities. HRSA encourages nominations from qualified candidates from these groups, as well as individuals with disabilities and veterans. Interested persons may nominate one or more qualified persons for membership. Self-nominations are also accepted. Nominations must be typewritten. The following information should be included in the package of materials submitted for each individual being nominated: (1) A letter of nomination that clearly states the name and affiliation of the nominee, the basis for the nomination (i.e., specific attributes that qualify the nominee for services in this capacity as described above), a statement that the nominee is willing to serve as a member of NACNEP and appears to have no conflict of interest that would preclude this Committee membership. Potential candidates will be asked to provide detailed information concerning such matters as financial holdings, consultancies, research grants, and/or contracts to permit an evaluation of possible sources of conflicts of interest; and (2) the nominator's name, address, and daytime telephone number; the home/or work address, and telephone number; and email address of the individual being nominated. HRSA requests inclusion of a current copy of the nominee's curriculum vitae and a statement of interest from the nominee to support experience working with Title VIII nursing programs; expertise in the field; and a personal desire in participating on a National Advisory Committee.

Committee members are classified as Special Government Employees (SGE). All SGEs on committees must submit an annual Form OGE 450 Confidential Financial Disclosure Report to the HRSA Ethics Program for analysis using the Ethics statutes, regulations, and policies to which all SGEs must adhere. Members will receive a stipend for each official meeting day of the Committee, as well as per diem and travel expenses as authorized by section 5 U.S.C. 5703 for persons employed intermittently in Government service.

Appointments shall be made without discrimination on the basis of age, ethnicity, gender, sexual orientation, and cultural, religious, or socioeconomic status. Qualified candidates will be invited to serve a 4-year term.

Dated: June 25, 2013.
Bahar Niakan,
Director, Division of Policy Review and Coordination.

[FR Doc. 2013-15711 Filed 7-1-13; 8:45 am]

BILLING CODE 4165-15-P